FEDERAL COMMUNICATIONS COMMISSION

47 CFR Part 73

[MB Docket No. 13-156; DA 13-2104]

Radio Broadcasting Services; Benjamin and Cisco, TX; De Beque, CO; Port Lions, AK; Rule and Shamrock, TX

AGENCY: Federal Communications Commission.

ACTION: Final rule.

SUMMARY: The Commission amends the Table of FM Allotments by removing Channel 221C0 at Port Lions, Alaska; Channel 247C3 at De Beque, Colorado; Channel 237C3 at Benjamin, Texas; Channel 261C3 at Cisco, Texas; Channel 288C2 at Rule, Texas; and Channel 225C2 at Shamrock, Texas. These vacant allotments have been offered in two or more FM auctions. No bids were entered for these allotments in Auction 94. It is Commission's policy not to delete an FM allotment where a bona fide expression of interest exists, absent a compelling reason to do so. Accordingly, we are deleting these six vacant allotments because no bona fide expressions of interests were filed.

DATES: Effective December 16, 2013.

FOR FURTHER INFORMATION CONTACT: Rolanda F. Smith, Media Bureau, (202) 418-2700.

SUPPLEMENTARY INFORMATION: This is a summary of the Commission's Report and Order, MB Docket No. 13-156, adopted October 31, 2013, and released November 1, 2013. The full text of this Commission decision is available for inspection and copying during normal business hours in the Commission's Reference Center 445 12th Street SW., Washington, DC 20554. The complete text of this decision may also be purchased from the Commission's duplicating contractor, Best Copy and Printing, Inc., 445 12th Street SW., Room CY-B402, Washington, DC 20054, telephone 1-800-378-3160 or www.BCPIWEB.com. The Commission will send a copy of the Report and Order in a report to be sent to Congress and the General Accounting Office pursuant to the Congressional Review Act, see 5 U.S.C. 801(a)(1)(A). This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4).

List of Subjects in 47 CFR Part 73

Radio, Radio broadcasting.

Federal Communications Commission.
Nazifa Sawez,
Assistant Chief, Audio Division, Media Bureau.

As stated in the preamble, the Federal Communications Commission amends 47 CFR Part 73 as follows:

PART 73—RADIO BROADCASTING SERVICES

1. The authority citation for Part 73 continues to read as follows:

Authority: 47 U.S.C. 154, 303, 334, 336 and 339.

§ 73.202 [Amended]

2. Section 73.202(b), the Table of FM Allotments, is amended by:

a. Under Alaska, removing Port Lions, Channel 221C0.

b. Under Colorado, removing De Beque, Channel 247C3.

c. Under Texas, removing Benjamin, Channel 237C3; by removing Cisco, Channel 261C3; by removing Channel 288C2 at Rule; and by removing Channel 225C2 at Shamrock.

[FR Doc. 2013-28550 Filed 12-4-13; 8:45 am]

BILLING CODE 6712-01-P